DEPARTMENT OF ENERGY

[FE Docket No. 03-27-NG, et al.]

Transco Energy Marketing Company, etc.; Orders Granting and Vacating Authority To Import and Export Natural Gas

AGENCY: Office of Fossil Energy, DOE.

ACTION: Notice of Orders.

SUMMARY: The Office of Fossil Energy (FE) of the Department of Energy gives notice that during July 2003, it issued Orders granting and vacating authority to import and export natural gas. These Orders are summarized in the attached appendix and may be found on the FE Web site at http://www.fe.doe.gov (select gas regulation), or on the electronic bulletin board at (202) 586-7853. They are also available for inspection and copying in the Office of Natural Gas & Petroleum Import & Export Activities, Docket Room 3E-033, Forrestal Building, 1000 Independence Avenue, SW., Washington, DC 20585, (202) 586-9478. The Docket Room is open between the hours of 8 a.m. and 4:30 p.m., Monday through Friday, except Federal holidays.

Issued in Washington, DC, on August 12, 2003.
Clifford P. Tomaszewski,
Manager, Natural Gas Regulation, Office of Natural Gas & Petroleum Import & Export Activities, Office of Fossil Energy.

Appendix—Orders Granting and Vacating Import/Export Authorizations
[DOE/FE AUTHORITY]
Order No. | Date issued | Importer/Exporter FE Docket No. | Import volume | Export volume | Comments
1873 | 7-3-03 | Transco Energy Marketing Company; 03-27-NG | 730 Bcf |  | Import natural gas from Canada, beginning on February 7, 2003, and extending through February 6, 2005.
1874 | 7-8-03 | AltaGas Marketing (U.S.) Inc.; 03-26-NG | 30 Bcf |  | Import and export up to a combined total of natural gas from and to Canada, beginning on July 9, 2003, and extending through July 8, 2005.
1875 | 7-8-03 | Apache Corporation; 03-28-0-NG | 250 Bcf |  | Import and export up to a combined total of natural gas from and to Canada, beginning on July 8, 2003, and extending through July 7, 2005.
1876 | 7-11-03 | Alliance Energy Services, LLC; 03-29-NG | 400 Bcf |  | Import and export up to a combined total of natural gas from and to Canada, beginning on August 1, 2003, and extending through July 31, 2005.
1855-A | 7-15-03 | TransAlta Chihuahua S.A. de C.V.; 03-08-NG |  |  | Vacate blanket export to Mexico.
1878 | 7-21-03 | AEP Energy Services, Inc.; 03-31-NG | 200,000 Mcf per day. 200,000 Mcf per day. | 200,000 Mcf per day. 200,000 Mcf per day. | Import and export natural gas from and to Canada, and import and export natural gas from and to Mexico, beginning on April 2, 2003, and extending through April 1, 2005.
1879 | 7-23-03 | Louis Dreyfus Energy Canada Inc.; 03-32-NG | 100 Bcf |  | Import and export up to a combined total of natural gas from and to Canada, beginning on August 1, 2003, and extending through July 31, 2005.
1880 | 7-29-03 | ONEOK Energy Marketing and Trading Company, L.P.; 03-34-NG | 150 Bcf |  | Import and export up to a combined total of natural gas from and to Canada and Mexico, beginning on July 31, 2003, and extending through July 30, 2005.
1881 | 7-29-03 | Distribuidora de Gas Natural de Mexicali; 03-35-NG | 19 Bcf | 19 Bcf | Import natural gas from Canada, and export natural gas to Mexico, beginning on July 31, 2003, and extending through July 30, 2005.

[FR Doc. 03-21024 Filed 8-15-03; 8:45 am]

BILLING CODE 6450-01-P